DEPARTMENT OF HEALTH AND HUMAN SERVICES

Food and Drug Administration

21 CFR Part 1140

[Docket No. FDA-2010-N-0136]

RIN 0910-AG33

Request for Comment on Implementation of the Family Smoking Prevention and Tobacco Control Act; Extension of Comment Period

AGENCY: Food and Drug Administration, HHS.

ACTION: Advance notice of proposed rulemaking; extension of comment period.

SUMMARY: The Food and Drug Administration (FDA) is extending for 60 days the comment period for the advance notice of proposed rulemaking (ANPRM) that appeared in the Federal Register of March 19, 2010. In the ANPRM, FDA requested comments, data, research, or other information on the regulation of outdoor advertising of cigarettes and smokeless tobacco. The agency is taking this action in response to a request for an extension to allow interested persons additional time to submit comments.

DATES: The comment period for the advance notice of proposed rulemaking, published March 19, 2010, at 75 FR 13241, is extended. Submit electronic or written comments by July 19, 2010.

ADDRESSES: You may submit comments, identified by Docket No FDA-2010-N-0136 and/or RIN number 0910-AG33, by any of the following methods:

Electronic Submissions

Submit electronic comments in the following way:

• Federal eRulemaking Portal: http://www.regulations.gov. Follow the instructions for submitting comments.

Written Submissions

Submit written submissions in the following ways:

• FAX: 301-827-6870.

• Mail/Hand delivery/Courier (for paper, disk, or CD-ROM submissions): Division of Dockets Management (HFA-305), Food and Drug Administration, 5630 Fishers Lane, rm. 1061, Rockville, MD 20852.

Instructions: All submissions received must include the agency name and docket number and Regulatory Information Number (RIN) for this rulemaking. All comments received may be posted without change to http://www.regulations.gov, including any personal information provided. For additional information on submitting comments, see the “Comments” heading of the SUPPLEMENTARY INFORMATION section of this document.

Docket: For access to the docket to read background documents or comments received, go to http://www.regulations.gov and insert the docket number, found in brackets in the heading of this document, into the “Search” box and follow the prompts and/or go to the Division of Dockets Management, 5630 Fishers Lane, rm. 1061, Rockville, MD 20852.

FOR FURTHER INFORMATION CONTACT: Annette Marthaler, Center for Tobacco Products, Food and Drug Administration, 9200 Corporate Blvd., Rockville, MD 20850-3229, 1-877-287-1373, annette.marthaler@fda.hhs.gov.

SUPPLEMENTARY INFORMATION:

I. Background

In the Federal Register of March 19, 2010 (75 FR 13241), FDA published an ANPRM with a 60-day comment period to request data, research, information, and comments on whether restrictions on outdoor advertising of tobacco products are necessary to protect children and adolescents from the harms caused by tobacco use and, if they are, whether the restrictions under consideration (as identified in the ANPRM), or close variations would be justified, lawful, and appropriate. FDA also solicited data, research, information, and comments on other restrictions on outdoor advertising that, either in addition to or instead of the specific restrictions under consideration, would advance the public health goal of protecting children and adolescents from the harms caused by tobacco use.

The agency has received a request for a 90-day extension of the comment period for the ANPRM. The request conveyed concern that the current 60-day comment period does not allow sufficient time to develop a meaningful response to the ANPRM.

FDA has considered the request and is extending the comment period for the ANPRM for 60 days, until July 19, 2010. The agency believes that a 60-day extension allows adequate time for interested persons to submit comments without significantly delaying a rulemaking on this important issue.

II. Comments

Interested persons may submit to the Division of Dockets Management (see ADDRESSES) either electronic or written comments regarding this document. it is only necessary to send one set of comments. It is no longer necessary to send two copies of mailed comments. Identify comments with the docket number found in brackets in the heading of this document. Received comments may be seen in the Division of Dockets Management between 9 a.m. and 4 p.m., Monday through Friday.

Dated: May 13, 2010.
Leslie Kux,
Acting Assistant Commissioner for Policy.

[FR Doc. 2010-11799 Filed 5-17-10; 8:45 am]

BILLING CODE 4160-01-S